DEPARTMENT OF COMMERCE

International Trade Administration

[A-533-810]

Notice of Amended Final Results of Antidumping Duty Administrative Review: Stainless Steel Bar From India

AGENCY: Import Administration, International Trade Administration, Department of Commerce.

ACTION: Notice of amended final results of antidumping duty administrative review.

EFFECTIVE DATE: August 15, 2002.

FOR FURTHER INFORMATION CONTACT: Ryan Langan or Cole Kyle, Office 1, AD/CVD Enforcement, Import Administration, International Trade Administration, U.S. Department of Commerce, 14th Street and Constitution Avenue, NW., Washington DC 20230; telephone (202) 482-2613 or (202) 482-1503, respectively.

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“the Department”) regulations are to 19 CFR part 351 (April 2000).

Scope of Review

Imports covered by this review are shipments of stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Amended Final Results

On July 5, 2002, the Department determined that stainless steel bar from India is not being sold in the United States at less than fair value, as provided in section 735(a) of the Act. See Stainless Steel Bar from India; Final Results of Antidumping Duty Administrative Review (“Final Results”), 67 FR 45956 (July 11, 2002). On July 15, 2002, we received ministerial error allegations, timely filed pursuant to 19 CFR 351.224(c)(2), from the petitioners regarding the Department's final margin calculations. Viraj did not submit any ministerial error allegations. However, on July 18, 2002, Viraj submitted comments, timely filed pursuant to 19 CFR 351.224(c)(3), responding to petitioners' ministerial error allegations.

The petitioners contend that the Department inadvertently omitted certain expenses and overstated indirect selling expense deductions when calculating the general and administrative expense ratio in our final results. The petitioners also allege that we incorrectly calculated entered value. The petitioners requested that we correct the errors and publish a notice of amended final results in the Federal Register, pursuant to 19 CFR 351.224(e). Viraj counters that the Department calculated the general and administrative expense ratio correctly and that petitioners' allegation concerning the indirect selling expense deduction is, in fact, a methodological argument and not a ministerial error. Viraj did not comment on the entered value allegation.

In accordance with section 735(e) of the Act, we have determined that certain ministerial errors were made in our final margin calculations. We corrected the general and administrative expense ratio to include certain additional expenses that we inadvertently omitted in the final results. We also corrected the entered value calculation. For a detailed discussion of these ministerial error allegations and the Department's analysis, see Memorandum to Richard W. Moreland, “Antidumping Duty Administrative Review of Stainless Steel Bar from India; Allegations of Ministerial Errors” dated August 8, 2002, which is on file in the Central Records Unit (“CRU”), room B-099 of the main Department building.

In accordance with 19 CFR 351.224(e), we are amending the final results of the antidumping duty administrative review of stainless steel bar from India to correct these ministerial errors. However, the amended weighted-average margin is identical to the weighted-average margin in the final results (see Final Results). The weighted-average dumping margin for Viraj is listed below:

Producer/manufacturer/exporter | Original weighted-average margin percentage | Amended results weighted-average margin percentage
Viraj Group, Ltd. | 0.47 | 0.47

Cash Deposit Rates

The following antidumping duty deposits will be required on all shipments of stainless steel bar from India entered, or withdrawn from warehouse, for consumption, effective on or after the publication date of the amended final results of this administrative review, as provided by section 751(a)(1) of the Act: (1) For Viraj, no antidumping duty deposit will be required; (2) for merchandise exported by manufacturers or exporters not covered in this review but covered in the original less-than-fair-value investigation or a previous review, the cash deposit will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 12.45 percent, the “all others” rate established in the less-than-fair-value investigation (see Stainless Steel Bar from India; Final Determination of Sales at Less Than Fair Value, 59 FR 66915 (December 28, 1994)).

These cash deposit requirements, when imposed, shall remain in effect until publication of the final results of the next administrative review.

We are issuing and publishing these results and this notice in accordance with sections 751(a)(1) and 777(i)(1) of the Act.

Dated: August 8, 2002.
Faryar Shirzad,
Assistant Secretary for Import Administration.

[FR Doc. 02-20773 Filed 8-14-02; 8:45 am]

BILLING CODE 3510-DS-P